DEPARTMENT OF COMMERCE

International Trade Administration

[C-580-835]

Stainless Steel Sheet and Strip in Coils From Korea; Extension of Time Limit for the Final Results of Sunset Review of Countervailing Duty Order

AGENCY: Import Administration, International Trade Administration, Department of Commerce.

ACTION: Notice of extension of time limit for the final results of sunset review of countervailing duty order: stainless steel sheet and strip in coils from Korea.

SUMMARY: The Department of Commerce (“the Department”) is extending the time limit for its final results in the first sunset review of the countervailing duty order on stainless steel sheet and strip in coils (“SSSS”). The Department intends to issue final results of this sunset review on or about December 10, 2004.

EFFECTIVE DATE: November 22, 2004.

FOR FURTHER INFORMATION CONTACT: Martha Douthit, Import Administration, International Trade Administration, U.S. Department of Commerce, 14th Street and Constitution Avenue, NW., Washington, DC 20230; telephone: (202) 482-5050.

Extension of Final Results of Reviews

On June 1, 2004, the Department initiated a sunset review of the countervailing duty order on SSSS from Korea. See Initiation of Five-Year (Sunset) Reviews, 69 FR 30874 (June 1, 2004). The Department, in this proceeding, determined that it would conduct an expedited sunset review of this order based on inadequate responses to the notice of initiation from respondent interested parties. The Department's final results of this review was originally scheduled for September 29, 2004 and was rescheduled for November 15, 2004.

Pursuant to section 751(c)(5)(B) of the Act, the administrating authority may extend the period for issuing final results by not more than 90 days if the administrating authority determines that a sunset review is extraordinarily complicated. A review may be treated as extraordinarily complicated if the issues to be considered are complex. Section 751(c)(5)(C)(ii) of the Act. In this instant review, the Department, needs additional time to consider complex issues related to the appropriate net countervailable subsidy rate likely to prevail if the order is revoked, which the Department will provide to the International Trade Commission. Thus, the Department intends to issue the final results on or about December 10, 2004, in accordance with sections 751(c)(5)(B) and 751(c)(5)(C)(i), (ii) and (iii) of the Tariff Act of 1930, as amended.

Dated: November 15, 2004.
James J. Jochum,
Assistant Secretary for Import Administration.

[FR Doc. E4-3279 Filed 11-19-04; 8:45 am]

BILLING CODE 3510-DS-P